DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Special Subsistence Permits and Harvest Logs for Pacific Halibut in Waters off Alaska.

Form Number(s): None.

OMB Approval Number: None.

Type of Request: Regular submission.

Burden Hours: 140.

Number of Respondents: 109.

Average Hours Per Response: 20 minutes.

Needs and Uses: The special Pacific halibut permits and harvest logs are created to monitor Pacific halibut subsistence use by Alaska tribes and certain Alaska rural communities. These ceremonial and educational permits are issued in addition to the Pacific halibut subsistence registration described in OMB No. 0648-0460, Subsistence Fishery for Pacific Halibut in Waters Off Alaska: Registration and Marking of Gear.

Affected Public: Individuals or households; business or other for-profit organizations; state, local or tribal government.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 25, 2005.
Gwellnar Banks,
Management Analyst, Office of the Chief Information Officer.

[FR Doc. 05-4058 Filed 3-2-05; 8:45 am]

BILLING CODE 3510-22-P